DEPARTMENT OF HEALTH AND HUMAN SERVICES

Health Resources and Services Administration

Health Professions and Nurse Education Special Emphasis Panel; Notice of Partially Closed Meetings

Pursuant to section 10(d) of the Federal Advisory Committee Act, as amended (5 U.S.C. Appendix 2), notice is hereby given of the following Health Professions and Nurse Education Special Emphasis Panel meetings by teleconference. The meetings will be partially closed to the public. The public can join the open session of the meetings in person at the address listed below. The closed session of the meetings is in accordance with the provision set forth in section 552(b)(c)(6), Title 5 U.S.C., and the Determination by the Associate Administrator for Management and Program Support, Health Resources and Services Administration, pursuant to Pub. L. 92-463.

Name: Field Experience in Public Health Nursing in State and Local Health Departments for Baccalaureate Nursing Students (Section 831 D52).

Date and Time: January 6-10, 2003.; January 13-15, 2003.

Place: DHHS, Parklawn Building, 5600 Fishers Lane, Room 11A-33, Rockville, MD 20857.

Open on: January 6, 2003, 12 p.m. to 1 p.m.

Closed on: January 6-10, 2003, 1 p.m. to 6 p.m.; January 13-15, 2003, 1 p.m. to 6 p.m.

Name: Basic Nurse Education and Practice: Geriatric Nursing Knowledge and Experiences in Long Term Care Facilities for Nursing Students (Section 831 D53).

Date and Time: January 6-8, 2003.

Place: DHHS, Parklawn Building, 5600 Fishers Lane, Room 11A-33, Rockville, MD 20857.

Open on: January 6, 2003, 11 a.m. to 12 p.m.

Closed on: January 6, 2003, 12 a.m. to 6 p.m.; January 7-8, 2003, 12 p.m. to 6 p.m.

Purpose: The Health Professions and Nurse Education Special Emphasis Panel shall advise the Associate Administrator for Health Professions on the technical merit of grants to improve the training, distribution, utilization, and quality of personnel required to staff the Nation's health care delivery system.

Agenda: The open portion of each meeting will cover introductions, opening remarks, housekeeping details, and an orientation to the review process. The closed portion of each meeting will involve the review, discussion, and evaluation of grant applications, the disclosure of which would constitute a clearly unwarranted invasion of personal privacy.

For Further Information Contact: Anyone wishing to obtain a roster of members or other relevant information should write or contact Ms. Wilma Johnson, Acting Director, Office of Peer Review, Bureau of Health Professions, Parklawn Building, Room 11A-33, 5600 Fishers Lane, Rockville, Maryland 20857, telephone (301) 443-6339.

Dated: December 26, 2002.
Jon L. Nelson,
Associate Administrator for Management and Program Support.

[FR Doc. 02-33078 Filed 12-31-02; 8:45 am]

BILLING CODE 4165-15-P